DEPARTMENT OF THE INTERIOR

National Park Service

[N6697; NPS-WASO-NAGPRA-NPS0041443; PPWOCRADN0-PCU00RP14.R50000]

Notice of Intended Repatriation: University of California, Davis, Davis, CA

AGENCY: National Park Service, Interior.

ACTION: Notice.

SUMMARY: In accordance with the Native American Graves Protection and Repatriation Act (NAGPRA), the University of California, Davis (UC Davis) intends to repatriate certain cultural items that meet the definition of sacred objects and that have a cultural affiliation with the Indian Tribes or Native Hawaiian organizations in this notice.

DATES: Repatriation of the cultural items in this notice may occur on or after January 16, 2026.

ADDRESSES: Send additional, written requests for repatriation of the cultural items in this notice to Megon Noble, University of California, Davis, 412 Mrak Hall, One Shields Avenue, Davis, CA 95616, email mnoble@ucdavis.edu.

SUPPLEMENTARY INFORMATION: This notice is published as part of the National Park Service's administrative responsibilities under NAGPRA. The determinations in this notice are the sole responsibility of UC Davis, and additional information on the determinations in this notice, including the results of consultation, can be found in the summary or related records. The National Park Service is not responsible for the determinations in this notice.

Abstract of Information Available

A total of six cultural items have been requested for repatriation. The sacred objects are six baskets. The University is unaware of any specific treatment of the individual sacred objects with pesticides, preservatives, or other substances that represent a potential hazard to the objects or to persons handling the objects. However, records located in the Anthropology Museum indicate that approximately ⅓ of the Merriam collection had been treated with Berlou, a dry mothproofing substance used as an insecticide, in 1964. It is unknown which baskets were treated.

One of the sacred objects originates from Humboldt County—CHM-46 was purchased by Frank J. Hittell near Dyerville in August 1903 and is assumed to have been later gifted to or purchased by C. Hart Merriam. Two of the sacred objects originate from Mendocino County—CHM-97 and CHM-98 were purchased by C. Hart Merriam from Sally Bell at her home near Needle Rock Crossroads in August 1923. Three sacred objects originate from Trinity County—CHM-47, CHM-48, and CHM-49 were purchased by C. Hart Merriam from “an old Indian Woman,” possibly Mrs. Lucy Young near Hettenshaw Valley in June 1922.

Determinations

UC Davis has determined that:

• The six sacred objects described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Bear River Band of the Rohnerville Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 16, 2026. If competing requests for repatriation are received, the UC Davis must determine the most appropriate requestor prior to repatriation. Requests for joint repatriation of the cultural items are considered a single request and not competing requests. The UC Davis is responsible for sending a copy of this notice to the Indian Tribes and Native Hawaiian organizations identified in this notice and to any other consulting parties.

Authority: Native American Graves Protection and Repatriation Act, 25 U.S.C. 3004 and the implementing regulations, 43 CFR 10.9.

Dated: November 25, 2025.
Melanie O'Brien,
Manager, National NAGPRA Program.

[FR Doc. 2025-23052 Filed 12-16-25; 8:45 am]

BILLING CODE 4312-52-P